DEPARTMENT OF ENERGY

Federal Energy Regulatory Commission

[Docket No. AD14-15-000]

Common Performance Metrics; Request for Information on Common Performance Metrics for RTOs and ISOs and Utilities Outside RTO and ISO Regions

On August 26, 2014, Commission Staff issued a “Common Metrics Report,” establishing 30 common metrics for independent system operators (ISOs), regional transmission organizations (RTOs), and utilities in non-ISO/RTO regions. In that report, Commission Staff indicated that upon approval by the Office of Management and Budget (OMB) for additional data collection, a notice would be issued requesting that the ISOs, RTOs, and participating utilities in non-ISO/RTO regions provide performance information on the common metrics on a schedule to be specified in the notice.¹

¹ Common Metrics Commission Staff Report, Docket No. AD14-15-000, at 4 (Aug. 26, 2014).

Consistent with the OMB-approved data collection ² and past practice regarding this effort, ISOs, RTOs, and utilities in non-ISO/RTO regions are encouraged to submit information responsive to the 30 common metrics listed in the August 2014 report. Information submitted should cover the 2010-2014 period, and should be submitted by October 30, 2015.³ Commission staff plans to contact representatives of the ISOs, RTOs, and utilities in non-ISO/RTO regions that have previously participated in this effort.

² On August 6, 2015, OMB approved a request for reinstatement and revision of information collection FERC-922, “Performance Metrics for ISOs, RTOs and Regions Outside ISOs and RTOs” (OMB Control No. 1902-0262).

³ Information should be submitted in docket no. AD14-15-000. Submissions must be formatted and filed in accordance with the submission guidelines described at: http://www.ferc.gov/resources/guides/submission-guide.asp. Submissions must be in an acceptable file format as described at: http://www.ferc.gov/docs-filing/elibrary/accept-file-formats.asp. The numeric values corresponding to all charts and tables containing metrics must be submitted in an accompanying file, in one of the following formats: Microsoft Office 2003/2007/2010: Excel (.xls or .xlsx), or ASCII Comma Separated Value (.csv).

For further information, please contact: Eric Krall, Office of Energy Market Regulation, Federal Energy Regulatory Commission, 888 First Street NE., Washington, DC 20426, (202) 502-6180, eric.krall@ferc.gov.

Dated: August 17, 2015.
Kimberly D. Bose,
Secretary.

[FR Doc. 2015-20743 Filed 8-20-15; 8:45 am]

BILLING CODE 6717-01-P